ENVIRONMENTAL PROTECTION AGENCY

[EPA-HQ-OPP-2005-0253- FRL-7752-6]

Propylene Oxide Risk Assessment; Notice of Availability and Risk Reduction Options; Extension of Comment Period

AGENCY: Environmental Protection Agency (EPA).

ACTION: Notice; extension of comment period.

SUMMARY: EPA issued a notice in the Federal Register of November 9, 2005, concerning propylene oxide (PPO). This document is extending the comment period for 30 days, from January 9, 2006, to February 8, 2006, in response to a request by the Almond Board of California.

DATES: Comments must be received on or before February 8, 2006.

ADDRESSES: Comments, identified by docket identification (ID) EPA-HQ-OPP-2005-0253- may be submitted electronically, by mail, or through hand delivery/courier. Follow the detailed instructions as provided in Unit I.C. of the SUPPLEMENTARY INFORMATION of the November 9, 2005 Federal Register document.

FOR FURTHER INFORMATION CONTACT: Susan Bartow, Special Review and Reregistration Division (7508C), Office of Pesticide Programs, Environmental Protection Agency, 1200 Pennsylvania Ave., NW., Washington, DC 20460-0001; telephone number: (703) 603-0065; fax number: (703) 308-8041; e-mail address: bartow.susan@epa.gov.

SUPPLEMENTARY INFORMATION:

I. General Information

A. Does this Action Apply to Me?

The Agency included in the November 9, 2005 Federal Register document notice a list of those who may be potentially affected by this action. If you have questions regarding the applicability of this action to a particular entity, consult the person listed under FOR FURTHER INFORMATION CONTACT.

B. How Can I Get Copies of this Document and Other Related Information?

1. Docket. EPA has established an official public docket for this action under docket ID number EPA-HQ-OPP-2005-0253-. The official public docket consists of the documents specifically referenced in this action, any public comments received, and other information related to this action. Although, a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

EDOCKET, EPA's electronic public docket and comment system was replaced on November 25, 2005, by an enhanced Federal-wide electronic docket management and comment system located at http://www.regulations.gov. Follow the online instructions.

An electronic version of the public docket is available through EPA's electronic public docket and comment system, EPA Dockets. You may use EPA Dockets at http://www.regulations.gov/ to submit or view public comments, access the index listing of the contents of the official public docket, and to access those documents in the public docket that are available electronically. Once in the system, select “search,” then key in the appropriate docket ID number.

C. How and to Whom Do I Submit Comments?

To submit comments, or access the official public docket, please follow the detailed instructions as provided in Unit I.C. of the SUPPLEMENTARY INFORMATION of the November 9, 2005 Federal Register document. If you have questions, consult the person listed under FOR FURTHER INFORMATION CONTACT.

II. What Action is EPA Taking?

This document extends the public comment period established in the Federal Register document of November 9, 2005 (70 FR 68031) (FRL-7740-2). In that document, EPA made available the human health risk assessment for PPO. PPO is an insecticidal fumigant used on several food items such as processed spices, cocoa (beans and powder), and in-shell and processed nutmeats (except peanuts). PPO also has nonfood uses for bird seeds, cosmetic articles, gums, ores, packaging, pigments, pharmaceutical materials, and discarded nut shells prior to disposal. EPA developed the risk assessment and risk characterization for PPO through a modified version of its public process for making pesticide reregistration eligibility and tolerance reassessment decisions. Through these programs, EPA is ensuring that pesticides meet current standards under the Federal Insecticide, Fungicide, and Rodenticide Act (FIFRA) and the Federal Food, Drug, and Cosmetic Act (FFDCA), as amended by the Food Quality Protection Act of 1996 (FQPA). The Agency received a request from the Almond Board of California to extend the comment period. EPA is hereby extending the comment period, which was set to end on January 9, 2006, to February 8, 2006. This extension is being given based on the request to have additional time to address data gaps identified in the preliminary human health risk assessment. In particular, the Almond Board plans to gather and submit survey information on worker exposure during fumigation and post fumigation, the time between fumigation and consumption by the public, and to prepare and present residue dissipation data on almonds. Since this is the only public comment period, the Agency is allowing a 30 day extension.

List of Subjects

Environmental protection, Pesticides and pests.

Dated: December 12, 2005.
Debra Edwards,
Director, Special Review and Reregistration Division, Office of Pesticide Programs.

[FR Doc. E5-7625 Filed 12-20-05; 8:45 am]

BILLING CODE 6560-50-S